NATIONAL SCIENCE FOUNDATION

Agency Information Collection Activities: Comment Request

ACTION: Notice.

SUMMARY: Under the Paperwork Reduction Act of 1995, Public Law 104-13 (44 U.S.C. 3506(c)(2)(A)), and as part of its continuing effort to reduce paperwork and respondent burden, the National Science Foundation invites the general public and other Federal agencies to take this opportunity to comment on this information collection.

DATES: Written comments should be received by May 11, 2010 to be assured of consideration. Comments received after that date will be considered to the extent practicable.

ADDRESSES: Written comments regarding the information collection and requests for copies of the proposed information collection request should be addressed to Suzanne Plimpton, Reports Clearance Officer, National Science Foundation, 4201 Wilson Blvd., Rm. 295, Arlington, VA 22230, or by e-mail to splimpto@nsf.gov.

For additional information or comments: Contact Suzanne Plimpton, the NSF Reports Clearance Officer, phone (703) 292-7556, or send e-mail to splimpto@nsf.gov. Individuals who use a telecommunications device for the deaf (TDD) may call the Federal Information Relay Service (FIRS) at 1-800-877-8339, which is accessible 24 hours a day, 7 days a week, 365 days a year (including federal holidays).

SUPPLEMENTARY INFORMATION: Title: Generic Clearance for the Evaluation of National Science Foundation's East Asia and Pacific Summer Institutes and International Research Fellowship Program.

OMB Approval Number: 3145-NEW.

Expiration Data of Approval: Not applicable.

Abstract: This is a request that the Office of Management and Budget (OMB) approve, under the Paperwork Reduction Act of 1995, a three year clearance for Abt Associates Inc. to conduct data collection efforts for an outcome evaluation of the National Science Foundation's East Asia and Pacific Summer Institutes (EAPSI) and International Research Fellowship (IRFP) Program.

These two programs offer early career researchers an opportunity to forge collaborative relationships with foreign scientists and engineers, albeit through different interventions. Launched in 1999, EAPSI provides $5,000 of support to US graduate students to spend the summer (two months) conducting research in seven countries in East Asia and the Pacific region. The program is designed to immerse US scholars into the scientific and social culture of the host location. IRFP, established in 1992, provides support to post-graduate scientists (generally a year or two after the receipt of a doctoral degree), for a research experience abroad lasting from 9 to 24 months, with no restriction on geographical area. Awards range from $57,000 to $200,000, depending on the location, cost and duration of the project, and the applicants' family status.

To assess the program effectiveness, NSF has plans to collect data that are designed to explore the fellowship experiences and educational and career outcomes of EAPSI and IRFP fellows as well as the influence of the programs on host scientists and their institutions and on US scientists and their institutions. The primary methods of data collection will include analyses of NSF program records and surveys of fellows, unfunded applicants, US advisors of fellows, and foreign hosts.

Expected Respondents: Include EAPSI and IRFP fellows; EAPSI and IRFP unfunded applicants (individuals who submitted an application, but did not receive an award); EAPSI and IRFP foreign hosts (individuals with whom EAPSI and IRFP fellows conduct research in foreign countries); and EAPSI US advisors (graduate advisors of EAPSI students).

Use of the Information: The purpose of these studies is to provide NSF with outcome data on the EAPSI and IRFP programs. These data would be used for internal program management and for reporting to stakeholders within and outside of NSF.

Burden on the Public: NSF estimates that a total reporting and recordkeeping burden of 3,125.5 hours will result from activities to implement the surveys. The calculation is shown in Table 1:

Table 1—Number of Respondents, Frequency of Response, and Annual Hour Burden
Respondent type | Number of respondents | Time per response (hours) | Number of responses # | Total time burden (hours)
EAPSI Fellows | 1,434 | 0.5 | 1,075 | 537.5
EAPSI Unfunded Applicants | 1,401 | 0.5 | 1,050 | 525
EAPSI US Advisors | *1,434 | 0.5 | 1,075 | 537.5
EAPSI Foreign Hosts | *1,434 | 0.5 | 1,075 | 537.5
IRFP Fellows | 567 | 0.5 | 425 | 212.5
IRFP Unfunded Applicants | 1,502 | 0.5 | 1,126 | 563
IRFP Foreign Hosts | *567 | 0.5 | 425 | 212.5
Total | *8,339 | N/A | 6,251 | 3,125.5
# Assume a 75% response rate.
* Or fewer. We assume that some foreign hosts for both programs have accepted more than one fellow; that some EAPSI fellows and applicants had the same graduate advisor; and that some EAPSI fellows participated in IRFP. The numbers in the table are therefore overestimates for these groups.

Comments: Comments are invited on (a) whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; and (d) ways to minimize the burden of the collection of information on those who are to respond, including through the use of appropriate automated, electronic, mechanical, or other technological collection techniques or other forms of information technology. Comments submitted in response to this notice will be summarized and/or included in the request for OMB approval of this information collection; they also will become a matter of public record.

Dated: March 9, 2010.
Suzanne Plimpton,
Reports Clearance Officer, National Science Foundation.

[FR Doc. 2010-5444 Filed 3-11-10; 8:45 am]

BILLING CODE 7555-01-P